DEPARTMENT OF TRANSPORTATION

Federal Motor Carrier Safety Administration

[Docket No. FMCSA-2014-0406]

Commercial Driver's License Standards: Application for Exemption Renewal; C.R. England, Inc.

AGENCY: Federal Motor Carrier Safety Administration (FMCSA), Department of Transportation (DOT).

ACTION: Notice of exemption renewal; request for comments.

SUMMARY: FMCSA announces its decision to provisionally renew a C.R. England, Inc. (C.R. England) exemption from the regulatory provisions that require a commercial learner's permit (CLP) holder to be accompanied by a commercial driver's license (CDL) holder with the proper CDL class and endorsements seated in the front seat of the vehicle while the CLP holder performs behind-the-wheel training on public roads or highways. The exemption allows a CLP holder who has passed the skills test but not yet received the CDL document to drive a C.R. England commercial motor vehicle (CMV) accompanied by a CDL holder who is not necessarily in the passenger seat, provided the driver has documentation of passing the skills test. The exemption renewal is for 5 years.

DATES: This renewed exemption is effective June 13, 2022 and expires on June 12, 2027. Comments must be received on or before July 18, 2022.

ADDRESSES: You may submit comments identified by Federal Docket Management System Number FMCSA-2014-0406 by any of the following methods:

• Federal eRulemaking Portal: www.regulations.gov. See the Public Participation and Request for Comments section below for further information.

• Mail: Dockets Operations, U.S. Department of Transportation, 1200 New Jersey Avenue SE, West Building, Ground Floor, Room W12-140, Washington, DC 20590-0001.

• Hand Delivery or Courier: West Building, Ground Floor, Room W12-140, 1200 New Jersey Avenue SE, Washington, DC 20590-0001 between 9 a.m. and 5 p.m. E.T., Monday through Friday, except Federal holidays.

• Fax: (202) 493-2251.

Each submission must include the Agency name and the docket number for this notice (FMCSA-2014-0406). Note that DOT posts all comments received without change to www.regulations.gov, including any personal information included in a comment. Please see the Privacy Act heading below.

Docket: For access to the docket to read background documents or comments, go to www.regulations.gov at any time or visit Room W12-140 on the ground level of the West Building, 1200 New Jersey Avenue SE, Washington, DC 20590-0001 between 9 a.m. and 5 p.m., ET, Monday through Friday, except Federal holidays. To be sure someone is there to help you, please call (202) 366-9317 or (202) 366-9826 before visiting Dockets Operations.

Privacy Act: In accordance with 49 U.S.C. 31315(b)(6), DOT solicits comments from the public on the exemption renewal request. DOT posts these comments, without edit, including any personal information the commenter provides, to www.regulations.gov, as described in the system of records notice (DOT/ALL-14 FDMS), which can be reviewed at www.dot.gov/privacy.

FOR FURTHER INFORMATION CONTACT: Mrs. Bernadette Walker, FMCSA Driver and Carrier Operations Division; Office of Carrier, Driver and Vehicle Safety Standards; (202) 385-2415; MCPSD@dot.gov. If you have questions on viewing or submitting material to the docket, contact Dockets Operations, (202) 366-9826.

SUPPLEMENTARY INFORMATION:

I. Public Participation and Request for Comments

FMCSA encourages you to participate by submitting comments and related materials.

Submitting Comments

If you submit a comment, please include the docket number for this notice (FMCSA-2014-0406), indicate the specific section of this document to which the comment applies and provide a reason for suggestions or recommendations. You may submit your comments and material online or by fax, mail, or hand delivery, but please use only one of these means. FMCSA recommends that you include your name and a mailing address, an email address, or a phone number in the body of your document so the Agency can contact you if it has questions regarding your submission.

To submit your comment online, go to www.regulations.gov and put the docket number FMCSA-2014-0406 in the “Search” box, and click “Search.” When the new screen appears, click on “Documents” button, then click the “Comment” button associated with the latest notice posted. Another screen will appear; insert the required information. Choose whether you are submitting your comment as an individual, an organization, or anonymous. Click “Submit Comment.”

If you submit your comments by mail or hand delivery, submit them in an unbound format, no larger than 8½ by 11 inches, suitable for copying and electronic filing. If you submit comments by mail and would like to know that they reached the facility, please enclose a stamped, self-addressed postcard or envelope. FMCSA will consider all comments and material received during the comment period.

II. Legal Basis

FMCSA has authority under 49 U.S.C. 31136(e) and 31315(b)(2) and 49 CFR 381.300(b) to renew an exemption from the Federal Motor Carrier Safety Regulations for a 5-year period if it finds “such exemption would likely achieve a level of safety that is equivalent to, or greater than, the level that would be achieved absent such exemption.” C.R. England has requested a five-year extension of the current exemption in Docket No. FMCSA-2014-0406.

III. Background

Current Regulation(s) Requirements

FMCSA's CDL regulations provide minimum training conditions for behind-the-wheel training of a CLP holder in 49 CFR 383.25. Section 383.25(a)(1) requires that a CLP holder at all times be accompanied by a CDL holder with the proper CDL class and endorsements. The CDL holder must be seated in the front seat of the vehicle while the CLP holder performs behind-the-wheel training on public roads or highways.

Application for Renewal of Exemption

FMCSA published notice of C.R. England's initial application for exemption from 49 CFR 383.25(a)(1) to this docket on November 28, 2014 [79 FR 70916]. That notice described the nature of C.R. England's operations. FMCSA published a notice granting C.R. England's exemption request on June 11, 2015, which was effective through June 12, 2017 [80 FR 33329]. FMCSA found that C.R. England would likely achieve a level of safety that was equivalent to, or greater than, the level of safety that would be obtained by complying with the regulation because CLP holders who have passed the CDL skills test are qualified and eligible to obtain a CDL. FMCSA published a notice granting C.R. England's request to renew its exemption to this docket on June 12, 2017 [82 FR 26975]. FMCSA addressed public comments and reaffirmed the renewal on October 20, 2017 [82 FR 48889]. The renewal expires on June 12, 2022.

C.R. England has now requested an additional renewal of the exemption for another 5-year period. A copy of C.R. England's request has been placed in the docket to this notice.

IV. Equivalent Level of Safety

FMCSA determined in 2015 and again in 2017 that C.R. England drivers would likely achieve a level of safety equivalent to, or greater than, the level of safety achieved without the exemption. FMCSA noted in its October 20, 2017 notice that CLP holders who have passed the CDL skills test are qualified and eligible to obtain a CDL. If those CLP holders obtained their CLPs and training in their State of domicile, they could immediately receive their CDL at the State driver licensing agency and begin driving a CMV without any on-board supervision.

In its January 21, 2022 application for renewal, C.R. England states that in the six and a half years that it has operated under the exemption (from mid-2015 through the end of 2021), 17,249 drivers used the exemption and traveled over 150 million miles. During that period, 52 injury and no fatal crashes occurred. C.R. England states that its overall crash rates have declined since 2015, with a 10% reduction in total crashes and a 38% reduction in injury crashes. C.R. England believes that, under the exemption, it achieves a level of safety that is greater than the level of safety obtained by compliance with section 383.25(a)(1), because new drivers may immediately begin using their skills rather than waiting until they return to their State of domicile to obtain the permanent CDL.

FMCSA is unaware of any evidence of a degradation of safety attributable to the current exemption for C.R. England drivers. There is no indication of an adverse impact on safety while operating under the terms and conditions specified in the initial exemption or exemption renewal.

FMCSA concludes that provisionally extending the exemption granted on June 11, 2015 for another five years, under the terms and conditions listed below, will likely achieve a level of safety that is equivalent to, or greater than, the level of safety achieved without the exemption.

V. Exemption Decision

A. Grant of Exemption

FMCSA provisionally renews the exemption for a period of five years subject to the terms and conditions of this decision and the absence of public comments that would cause the Agency to terminate the exemption under Sec. V.F. below. The exemption from the requirements of 49 CFR 383.25(a)(1), is otherwise effective June 13, 2022 through June 12, 2027, 11:59 p.m. local time, unless renewed or rescinded.

B. Applicability of Exemption

The exemption excuses C.R. England from the requirement that a driver accompanying a CLP holder always be physically present in the front seat of a CMV, on the condition that the CLP holder has successfully passed an approved CDL skills test.

C. Terms and Conditions

When operating under this exemption, C.R. England and its drivers are subject to the following terms and conditions:

(1) C.R. England and its drivers must comply with all other applicable Federal Motor Carrier Safety Regulations (49 CFR part 350-399);

(2) The drivers must be in possession of a valid State driver's license, CLP with the required endorsements, and documentation that they have passed the CDL skills test;

(3) The drivers must not be subject to any OOS order or suspension of driving privileges; and

(4) The drivers must be able to provide this exemption document to enforcement officials.

D. Preemption

In accordance with 49 U.S.C. 31315(d), as implemented by 49 CFR 381.600, during the period this exemption is in effect, no State shall enforce any law or regulation that conflicts with or is inconsistent with this exemption with respect to a firm or person operating under the exemption. States may, but are not required to, adopt the same exemption with respect to operations in intrastate commerce.

E. Notification to FMCSA

C.R. England must notify FMCSA within 5 business days of any accident (as defined in 49 CFR 390.5) involving any of its CMVs operating under the terms of this exemption. The notification must include the following information:

(a) Name of the exemption: “C.R. England”;

(b) Date of the accident;

(c) City or town, and State, in which the accident occurred, or closest to the accident scene;

(d) Driver's name and license number;

(e) Vehicle number and State license number;

(f) Number of individuals suffering physical injury;

(g) Number of fatalities;

(h) The police-reported cause of the accident;

(i) Whether the driver was cited for violation of any traffic laws, motor carrier safety regulations; and

(j) The driver's total driving time and total on-duty time prior to the accident.

Reports filed under this provision shall be emailed to MCPSD@DOT.GOV.

F. Termination

FMCSA does not believe the drivers covered by this exemption will experience any deterioration of their safety record. The exemption will be rescinded if: (1) C.R. England and drivers operating under the exemption fail to comply with the terms and conditions of the exemption; (2) the exemption has resulted in a lower level of safety than was maintained before it was granted; or (3) continuation of the exemption would not be consistent with the goals and objects of 49 U.S.C. 31136(e) and 31315.

VI. Request for Comments

FMCSA requests public comment from all interested persons on C.R. England's application for a renewal of the exemption. The Agency will evaluate any adverse evidence submitted and, if safety is being compromised or if continuation of the exemption would not be consistent with the goals and objectives of 49 U.S.C. 31136(e) and 31315, FMCSA will take immediate steps to rescind the exemption of the company or companies and drivers in question.

Robin Hutcheson,
Deputy Administrator.

[FR Doc. 2022-12921 Filed 6-15-22; 8:45 am]

BILLING CODE 4910-EX-P